DEPARTMENT OF DEFENSE

Department of the Navy

Record of Decision for Restoration of Clear Zones and Stormwater Drainage Systems at Boca Chica Field, Naval Air Station, Key West, FL

AGENCY: Department of the Navy, DoD.

ACTION: Notice of Record of Decision.

SUMMARY: The Department of the Navy announces its decision to restore clear zones and stormwater drainage systems at Boca Chica Field, Naval Air Station, Key West, Florida. Restoration actions include a combination of controlled woody vegetation removal, salt marsh conversion, and future vegetation maintenance. Stormwater drainage system restoration includes the installation of aprons and wing walls on culverts and the replacement of several damaged undersized culverts.

FOR FURTHER INFORMATION CONTACT: Mr. Jim Reed, Naval Facilities Engineering Command Southeast (Code EVc2), 2155 Eagle Drive, North Charleston, SC 29406, telephone 843-820-5543.

SUPPLEMENTARY INFORMATION: The text of the entire Record of Decision (ROD) is provided as follows: Pursuant to section 102(2)(c) of the National Environmental Policy Act (NEPA) of 1969, 42 U.S.C. 4332(2)(c), and the regulations of the Council on Environmental Quality that implement NEPA procedures, Code of Federal Regulations (CFR) Title 40, Parts 1500-1508, the Department of the Navy (Navy) announces its decision to restore the clear zones and stormwater drainage systems at Boca Chica Field, Naval Air Station Key West (NAS Key West). The proposed restoration activities will be accomplished as set out in Alternative 2, described in the Final Environmental Impact Statement (Final EIS) as the Preferred Alternative.

The Navy proposes to restore clear zones and stormwater drainage systems on Boca Chica Field to bring the airfield into compliance with Navy and Federal Aviation Administration (FAA) Safety Regulations. NAS Key West's primary mission is to provide pilot training facilities and services as well as access to superior airspace and training ranges for tactical aviation squadrons. As such, NAS Key West serves as the Navy's premier East Coast pilot training facility for tactical aviation squadrons. The purpose of the Proposed Action is to ensure the safety of flight operations at Boca Chica Field. The need for the Proposed Action is to ensure continued Department of Defense (DoD) operation of Boca Chica Field through compliance with Airfield Safety Clearances (Naval Facilities P-80.3), Airfield and Heliport Planning and Design (Unified Facilities Criteria 3-260-01), and Objects Affecting Navigable Airspace (Federal Aviation Regulation 14 CFR Part 77).

Because of the size and complexity of this action, the Navy will use a phased approach for the completion of this project, implementing it over several years and utilizing an adaptive management approach as the project goes forward. This phased approach will enable the Navy to incorporate lessons learned as the project evolves, and is consistent with natural resources management goals and objectives identified in the NAS Key West Integrated Natural Resources Management Plan. The project involves both restoration and long-term maintenance that will be completed in various locations at Boca Chica Field. Maintenance measures include trimming and/or removal of vegetation that protrudes into vertically controlled airfield surfaces or that should not be present in laterally controlled surfaces, clearing and grubbing, grading, filling low areas, replanting select areas with native salt marsh vegetation, and supplemental improvements to drainage conditions. Restoration methods will include the use of hand-clearing or mechanized methods (i.e., traditional construction equipment or specialized equipment). Maintenance methods may include mowing, hand-clearing, and prescribed burning where feasible. Use of the adaptive management approach will allow the Navy to restore and maintain safety of flight conditions in a manner that also provides protection to the Lower Keys marsh rabbit (LKMR) and minimizes impacts to wetland communities.

The alternatives for analysis in the Final EIS were developed through a planning process and several internal Navy meetings involving pilots, airfield managers, public works, and environmental staff, as well as stakeholder meetings with the NAS Key West Natural Resources and Environmental Compliance Partnering Team (Partnering Team). The Partnering Team was created in order to protect and conserve the Florida Keys' natural resources, maintain environmental compliance, and enhance the Navy's ability to meet its mission critical objectives. Partnering Team members include representatives from the Navy, as well as from Federal, State, and local government agencies. Specifically, these include: NAS Key West; Commander Navy Region Southeast; Naval Facilities Engineering Command Southeast; United States Environmental Protection Agency (EPA); United States Fish & Wildlife Service (USFWS); the Florida Keys National Marine Sanctuary; Florida Department of Environmental Protection; Monroe County; and City of Key West. The Florida Fish and Wildlife Conservation Commission, National Oceanic and Atmospheric Administration National Marine Fisheries Service (NOAA Fisheries), Florida Department of Community Affairs, South Florida Water Management District, and the U.S. Coast Guard are also part of this team, but are not core members. The Partnering Team will serve as an integral source of information prior to design and construction for each phase of the project. At the conclusion of each phase, the Partnering Team will discuss the effectiveness of the specific components of the project and provide suggestions and input relative to the success of each phase based on the proposed monitoring plans.

The Partnering Team was briefed on the Proposed Action during NAS Key West Partnering Team meetings and their input and concerns were solicited. These meetings included discussions on vegetation and wildlife present within the airfield safety clearance zones, specific airfield safety criteria, airfield safety waivers, and the identification of selection criteria to be used to determine the full range of alternatives to be analyzed in the EIS. The Navy determined that the project alternatives would be evaluated based on the following criteria: (1) Meets applicable airfield criteria for Class B runways to include permanent Naval Air Systems Command (NAVAIR) waivers; (2) minimizes disturbance to wetlands and threatened and endangered species and their habitats; (3) is economically feasible; and (4) minimizes the amount of off-site mitigation. Initially the Navy identified four action alternatives for bringing Boca Chica Field into compliance with Navy and FAA criteria. Two of the potential alternatives (fill areas within airfield clearance zones, and dredge and fill select areas within airfield clearance zones) were eliminated from further consideration as candidate alternatives because they did not fulfill all of the aforementioned alternative evaluation criteria.

A Draft and Final EIS were prepared to assess the impacts of the remaining two alternatives. The comparative analysis of the two alternatives was accomplished by evaluating the impacts associated with each approach. The EIS also evaluated the No-Action Alternative, which involves the continued performance of routine airfield grounds maintenance in mowed areas and maintenance of drainage features adjacent to runways and taxiways.

Public Involvement: Public involvement commenced with the scoping process in August 2004 that included publication in the Federal Register of a Notice of Intent to prepare the EIS and one scoping meeting to actively solicit input from the public, local governments, Federal and State agencies, and environmental groups. The Draft EIS was filed with the EPA on November 9, 2006, followed by an extended 60-day public comment period. A public hearing was held in December 2006 which provided an opportunity for the public to evaluate the proposal and analyses contained in the Draft EIS. The Final EIS was filed with the EPA on August 3, 2007, followed by a 30-day no action period to allow public review of the Final EIS. The Final EIS included identification of the Preferred Alternative, conservation measures to reduce environmental consequences, and public and agency comments on the Draft EIS as well as responses to those comments.

Alternatives Analyzed: Two action alternatives were identified and carried forward for detailed analysis in the EIS. Alternative 1, Restoration of Original Clear Zones, would return the airfield condition as originally constructed, including removal of all vegetation within clear zones and restoring drainage and elevations to meet existing safety criteria. NAVAIR-issued waivers would not be required. Alternative 2, Restoration of Clear Zones to Meet Permanent Waivers, would provide vegetation and drainage maintenance to meet permanent safety criteria waivers issued by NAVAIR, and would include management and conservation activities such as the conversion of mangrove wetlands to salt marsh wetlands. Use of the permanent waivers allows the Alternative 2 project footprint to be substantially smaller than the Alternative 1 footprint.

The Navy identified Alternative 2, Restoration of Clear Zones to meet Permanent Waivers, as its Preferred Alternative in the Draft and Final EIS. Under Alternative 2, restoration measures would be completed in clear zones to meet airfield safety clearance criteria taking into account the permanent waivers, and including the conversion of 37.59 acres of area within LKMR habitat to high quality salt marsh (preferred habitat of the LKMR) and other conservation measures. As a result, fewer environmental impacts would result under implementation of this alternative than from Alternative 1. The No-Action Alternative would have the least potential for adverse environmental consequences, and therefore is the environmentally preferred alternative. Implementation of the No-Action Alternative, however, would only solve site-specific safety concerns for a short duration and would ultimately be labor and cost prohibitive. Consequently, the purpose of the Proposed Action, to ensure the safety of flight operations at Boca Chica Field, while at a minimum complying with NAVAIR permanent waivers, would not be met.

Decision: After considering the potential environmental consequences of both Alternatives 1 and 2, and the No-Action Alternative, the Navy has decided to implement the Preferred Alternative, Alternative 2, to restore clear zones and stormwater drainage systems on Boca Chica Field.

Environmental Consequences: In the EIS, the Navy analyzed the environmental impacts that could occur as a result of implementing each of the alternatives, as well as the No-Action Alternative. Chapter 4 of the Final EIS provides a detailed discussion of impacts and mitigation measures. This ROD, however, will focus on the impacts associated with the Preferred Alternative, Alternative 2, Restoration of Clear Zones to Meet Permanent Waivers. The EIS analyzed environmental impacts and the potential magnitude of those impacts relative to nine categories of environmental resources: biological resources; Earth resources; water resources; air quality; noise; cultural resources; Bird Aircraft Strike Hazard (BASH); socioeconomics; and environmental contamination. The Preferred Alternative presents no significant impacts to air quality, noise, BASH, socioeconomics or environmental contamination. Therefore, no mitigation or conservation measures are offered in those areas.

A discussion of those resource categories where the potential for significant impacts was identified, or that were the subject of substantial comments, follows.

Biological Resources: Approximately 260 acres of total wetland communities would be affected by the proposed action under the Preferred Alternative. Woody vegetation that is incompatible with airfield operations and airfield safety would experience the greatest impact, and includes 132.6 acres of mangrove forest, 25.4 acres of scrub mangrove, 27 acres of buttonwoods, and 5 acres of freshwater hardwoods. Grassy salt marsh, low salt marsh, and freshwater marsh would experience minimal impacts overall. Implementation of the Preferred Alternative would result in no loss of wetland habitat within the project area. This will be accomplished through the conversion of mangrove wetlands to salt marsh wetlands.

Effects to the 15 species listed (including one candidate species) under the Endangered Species Act (ESA) that may occur or are known to occur at NAS Key West are addressed in the No Jeopardy Biological Opinion (BO) issued by the USFWS on March 7, 2007. Two of the 15 species addressed are plant species, the Garber's spurge (a listed species), and the Blodgett's wild mercury (a candidate species). The USFWS concluded the Navy's Proposed Action would have “no effect” on either plant. The BO also addressed thirteen listed animal species that may occur or are known to occur in the vicinity of Boca Chica Field. Of these, the USFWS concluded the Navy's Proposed Action will have “no effect” on Eastern indigo snake, loggerhead sea turtle, green sea turtle, leatherback sea turtle, hawksbill sea turtle, Kemp's Ridley sea turtle, and Stock Island tree snail. The USFWS BO determined that the Navy's Proposed Action “may affect, but is not likely to adversely affect” Florida manatee, silver rice rat, bald eagle, roseate tern, and American crocodile.

USFWS reached a determination of “may affect, likely to adversely affect” for the LKMR. In an Incidental Take Statement to the BO, the USFWS authorized incidental take of this species resulting from implementation of the Preferred Alternative.

No significant adverse impacts to migratory birds or non-listed wildlife species are expected.

Although there would be no net loss of wetland habitat with the conversion of mangrove wetland to salt marsh wetlands, the Preferred Alternative would result in the loss of 185.14 acres of mangrove habitat classified as Essential Fish Habitat. The Navy submitted an EFH Assessment in March of 2006 as part of consultation with NOAA Fisheries. NOAA Fisheries has provided programmatic comments on the overall project, noting they would continue to review and provide additional recommendations for each future phase of the project. The expanded consultation with NOAA Fisheries will continue through the remaining phases of the project.

On March 30, 2007, NOAA Fisheries Protected Resources Division (PRD) concluded consultation regarding the impacts to the smalltooth sawfish and sea turtles (the ESA-listed species that fall under NOAA Fisheries PRD's purview). Considering the Navy's commitment to conduct advance mitigation of mangrove habitat and complete the remainder of the mitigation concurrent with each phase of the proposed mangrove removal in areas that are accessible to smalltooth sawfish, NOAA Fisheries PRD believed that smalltooth sawfish in or near the project area would have available refuge habitat during and after project completion. Therefore, NOAA Fisheries PRD believed indirect effects on smalltooth sawfish due to habitat loss would be insignificant. NOAA Fisheries PRD concurred with the Navy's determination that the proposed activity is not likely to adversely affect any ESA-listed species under NOAA Fisheries PRD purview.

Mitigation and Conservation Measures: Specific conservation measures have been identified for the following biological resources: Wetlands, the LKMR, EFH and the smalltooth sawfish. For wetlands, the following measures have been identified: (1) Maintain permanent waivers at Boca Chica Field, which reduces the overall project footprint by 77.73 acres and reduces the effects to wetlands by 58.83 acres; (2) no loss of wetland habitat including 37.59 acres of area within LKMR habitat to be converted to high quality salt marsh; and (3) approximately 109 acres of select mangroves outside of LKMR habitat to be filled and converted to maintainable wetlands (e.g., salt marsh wetlands to be maintained by mowing, thereby retaining the hydrologic wetland function on Boca Chica Field while eliminating the flight hazard currently present on the airfield).

For the LKMR, the following measures have been identified in addition to reducing the project footprint as described above: (1) Retain and enhance LKMR habitat; (2) utilize specialized equipment in select areas (i.e., customized or modified equipment that would minimize the amount of disturbance to the substrate, vegetation and wildlife); (3) utilize hand-held equipment in some areas (with a focus on LKMR habitat) which will eliminate heavy machinery and vehicles from those areas, minimizing impacts to substrate and existing herbaceous vegetation, and reducing the potential for wildlife mortality due to vehicular traffic; and (4) in total, convert 37.59 acres of area within LKMR habitat to high quality salt marsh vegetation planted to include species that are known to be preferred food sources of the LKMR, and that can be used as escape cover. Other wildlife found on Boca Chica Field would potentially utilize this marsh habitat as well, including shorebirds and small mammals.

For EFH, the following conservation measures have been identified in addition to reduction in project footprint described above: (1) In some areas where mangrove forests must be removed to meet airfield safety requirements, create high salt marsh which will retain wetland functions and provide episodic support for marine species during periods of inundation; (2) several advanced mitigation projects are proposed on Big Coppitt Key and Geiger Key that will provide creation or enhancement of approximately 60 acres of mangrove habitat; and (3) the Navy has agreed to trim within the transitional surface of the airfield clear zone in an area that will not pose a safety of flight issue (south of the Runway 25 approach), thereby reducing impacts to EFH by 2.47 acres.

For the smalltooth sawfish, conservation measures previously listed for “wetlands” and “EFH” (including reduction of project footprint and trimming of 2.47 acres south of the Runway 25 approach) have been identified.

These conservation measures, while created specifically for each of these biological resources, will be beneficial to all other biological resources found on Boca Chica Field, including, but not limited to, listed and non-listed wildlife and plant species, seagrasses, and migratory birds.

Earth Resources: Implementation of the Preferred Alternative would result in moderate short-term adverse impacts to existing Earth resources (topography, geology and soil resources) during clearing, grading, grubbing, and dredging and filling activities. No geologic features would be impacted. The Preferred Alternative would result in the disturbance of greater than 1 acre of soil, requiring a National Pollutant Discharge Elimination System (NPDES) Generic Permit for Storm Water Discharge from Large Construction Activities, Florida Administrative Code (FAC) 62-621.300(4)(a). Under the Preferred Alternative, the Navy would impact a total of 438.14 acres. This alternative would also use a combination of clearing and grading equipment and techniques to minimize soil disturbance within specific areas.

Mitigation and Conservation Measures: Under the provisions of the Clean Water Act, the Navy would be required to apply for permits pursuant to sections 401 and 404. Prior to issuing its section 404 permit, the U.S. Army Corps of Engineers (USACE) would require the Navy to conduct turbidity and construction management and monitoring. Under the provisions of the NPDES permit, FAC 62-621.300(4)(a), the Navy would be required to complete a Stormwater Pollution Prevention Plan (SWPPP) to reduce pollution at the construction site. The SWPPP would be used to identify and implement Best Management Practices (BMPs) and measures to minimize erosion and sedimentation and properly manage stormwater. BMPs include, but are not limited to: Turbidity screens, silt fences, sediment traps, and storm drain inlet protection. These same measures would be used in order to prevent potential impacts to water resources, as discussed below.

Water Resources: Implementation of the Preferred Alternative would result in short-term minor adverse impacts on existing water resources (hydrology and water quality) during clearing, grading, and grubbing activities. No impacts on groundwater resources or floodplains would be expected. The Preferred Alternative would likely result in short-term erosion due to the removal of vegetation during clearing activities. As a result, loose sediments may migrate into local coastal waters via stormwater runoff, thereby increasing the potential for turbidity. The proposed phasing of the project would minimize the amount of impacts at any one time. Additionally, during any clearing activities the Navy would implement BMPs to reduce the turbidity associated with this project. Over the long-term, the proposed drainage restoration activities to be completed would result in an overall improvement to airfield drainage and safety. Nearly all of the stormwater conveyances on Boca Chica Field drain into natural areas, wetland areas, and stormwater ponds prior to discharging to surrounding water bodies. This provides natural storage which results in increased retention times and functions to minimize stormwater and sedimentation impacts to surrounding surface water bodies.

Cultural Resources: Implementation of the Preferred Alternative would not result in any impacts to historical or archaeological resources. The State Historic Preservation Official (SHPO) concurred with the Navy that the Preferred Alternative, Alternative 2, was the most appropriate option. In a January 5, 2007 letter, the SHPO identified 4 archaeological sites in and around the Area of Potential Effect. Although these 4 areas are located on the Boca Chica installation, none are within the project footprint. The Navy agreed in a letter dated February 8, 2007 to avoid all sites mentioned by the SHPO. Additionally, the Navy agreed to create contingency plans to stop ground disturbing work in case of inadvertent discoveries and to follow Section 106 of the National Historic Preservation Act of 1966, as amended, and 36 CFR part 813: Post-Review Discoveries; Chapter 267, Florida Statutes, in the event of any inadvertent discovery during the construction phases.

Response To Comments Received On the Final EIS: The Navy received comments on the Final EIS from one Federal agency and two state agencies. The Florida Department of Transportation's comments on the Draft EIS were resolved in the Final EIS. EPA Region 4 recommended inclusion in the ROD of a commitment by the Navy to include turbidity and construction monitoring in the project's SWPPP. This comment has been addressed within the Earth Resources section of this ROD by clarifying that the USACE permitting process requires turbidity and construction monitoring.

The South Florida Water Management District indicated concern with turbidity and wetland impacts, including secondary wetland impacts. Such concerns are typically addressed through the permitting process, and accordingly the Final EIS indicates that the Navy will comply with permit requirements that implement appropriate pollution prevention techniques to minimize erosion and sedimentation and properly manage stormwater. Additionally the Final EIS states that Best Management Practices and the conditions of the NPDES and other permits will be followed and will limit potential adverse impacts. As part of the permitting process, Navy will apply for an Environmental Resource Permit from the State of Florida, and will be required to demonstrate that a reduction and elimination analysis of proposed wetland impacts has been conducted pursuant to the requirements of the appropriate state agency. Any potential mangrove habitat loss and conversion will be offset through Navy's monitoring and mitigation plan, using a functional analysis (Uniform Mitigation Assessment Methodology) to determine, numerically, the existing wetland functions and proposed mangrove functional loss in affected areas. Specific mitigation will be identified concurrent with each phase of construction and discussed in meetings with the Partnering Team for appropriate input. The Navy's monitoring and mitigation plan will address any secondary impacts that may occur.

SUMMARY: In determining how best to restore the clear zones and stormwater drainage systems on Boca Chica Field, I considered impacts to the following areas: Biological resources; Earth resources; water resources; air quality; noise; cultural resources; BASH; socioeconomics; and environmental contamination. I have also taken into consideration the Navy's consultation with the USFWS regarding endangered species, NOAA Fisheries regarding EFH, and NOAA Fisheries PRD regarding the smalltooth sawfish and sea turtles. I have also considered the comments sent to the Navy by the regulatory community, state and local governments, and the public. After carefully weighing all of these factors, I have determined that the Preferred Alternative, Alternative 2, Restoration of Clear Zones to Meet Permanent Waivers, will best meet the needs of the Navy while also minimizing the environmental impacts associated with airfield restoration.

Dated: September 12, 2007.
BJ Penn,
Assistant Secretary of the Navy (Installations and Environment).

[FR Doc. E7-18383 Filed 9-18-07; 8:45 am]

BILLING CODE 3810-FF-P